DEPARTMENT OF THE INTERIOR

Fish and Wildlife Service

Receipt of Application for Endangered Species Permit

AGENCY: Fish and Wildlife Service, Interior.

ACTION: Notice of receipt of application for endangered species permit.

SUMMARY: The following applicants have applied for permits to conduct certain activities with endangered species. This notice is provided pursuant to Section 10(c) of the Endangered Species Act of 1973, as amended (16 U.S.C. 1531 et seq.).

DATES: Written data or comments on these applications must be received, at the address given below, by June 7, 2002.

ADDRESSES: Documents and other information submitted with these applications are available for review, subject to the requirements of the Privacy Act and Freedom of Information Act, by any party who submits a written request for a copy of such documents to the following office within 30 days of the date of publication of this notice: U.S. Fish and Wildlife Service, 1875 Century Boulevard, Suite 200, Atlanta, Georgia 30345 (Attn: Victoria Davis, Permit Biologist). Telephone: 404/679-4176; Facsimile: 404/679-7081.

FOR FURTHER INFORMATION CONTACT: Victoria Davis, Telephone: 404/679-4176; Facsimile: 404/679-7081.

SUPPLEMENTARY INFORMATION: If you wish to comment, you may submit comments by any one of several methods. You may mail comments to the Service's Regional Office (see ADDRESSES). You may also comment via the internet to “victoria_davis@fws.gov.” Please submit comments over the internet as an ASCII file avoiding the use of special characters and any form of encryption. Please also include your name and return address in your internet message. If you do not receive a confirmation from the Service that we have received your internet message, contact us directly at either telephone number listed above (see FOR FURTHER INFORMATION CONTACT). Finally, you may hand deliver comments to the Service office listed below (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. However, we will not consider anonymous comments. We will make all submissions from organizations or businesses, and from individuals identifying themselves as representatives or officials of organizations or businesses, available for public inspection in their entirety.

TE051013-0

Applicant: Jeff Glitzenstein, Tallahassee, Florida.

The applicant requests authorization to remove and reduce to possession seeds of Schwalbea americana, American chaffseed, for the purposes of re-establishing a population at Roy's Place, Francis Marion National Forest, Berkeley, South Carolina. After a control burn, one capsule will be taken from twenty plants at the donor site (intersection of Roy's Place Road and Witherbee Road).

TE054524-0

Applicant: Environmental Laboratory, U.S. Army Corps of Engineers, Research and Development Center, Chester O. Martin, Vicksburg, Mississippi.

The applicant requests authorization to take (survey, capture, identify, and release) the gray bat (Myotis grisescens) and Indiana bat (Myotis sodalis) to investigate the impacts of military noise on the auditory systems and behavior of endangered bat species. The study will use a combination of sampling and data collection techniques, including mist netting, radio telemetry, thermal infrared imaging, and ultrasonic sound detection. The proposed activities will take place on the following two installations: Fort Knox, Meade, Bullit, and Jefferson Counties, Kentucky and Fort Campbell, Trigg County, Kentucky.

Applicant: USDA, Forest Service, South Research Station, Susan Loeb, Clemson, South Carolina, TE055190-0.

The applicant requests authorization to take (survey, capture, identify, band, radio-tag, and release) the gray bat (Myotis grisescens) and Indiana bat (Myotis sodalis) for the following reasons: To determine characteristics of trees used as primary and alternate Indiana bat maternity roost sites; to determine stand and landscape characteristics associated with roost trees; to determine tree, stand, and landscape characteristics that may be important in roost site selection; and to develop models of Indiana bat roosting habitat using both logistic regression and Mahalanobis distance statistics. The proposed activities will take place in North Carolina, South Carolina, Kentucky, Georgia, Florida, Virginia, Arkansas, Alabama, and Tennessee.

Applicant: Nick Haddad, North Carolina State University, Raleigh, North Carolina, TE054973-0.

The applicant requests authorization to take (survey, capture, mark, recapture, and release) the Saint Francis' Satyr (Neonympha mitchellii francisci) to identify the plants used for food, to monitor efforts to determine the long-term viability of existing populations, to assess the importance of habitat corridors, and to assess the importance of large populations to sustain smaller populations outside of the impact areas. The proposed activities will take place on the Fort Bragg military base, Cumberland and Hoke Counties, North Carolina.

Applicant: Alabama Division of Wildlife and Freshwater Fisheries, Jeffery T. Garner, Florence, Alabama, TE054999-0.

The applicant requests authorization to take (remove, tag, exam, measure, sex, and translocate) the Anthony's riversnail (Athearnia anthonyi), Dromedary pearlymussel (Dromus dromas), Oystershell pearlymussel (Epioblasma capsaeformis), and Birdwing pearlymussel (Lemiox rimosus) to test the suitability of habitat for these species, prior to wide-scale introductions of cultured juveniles and/or transplanted adults. The proposed collection activities will take place from Limestone Creek, Limestone County, Alabama; Clinch River, Hancock County, Tennessee; and the Duck River, Marshall County, Tennessee. The release activities will take place in the Tennessee River, downstream of Wilson Dam, Lauderdale and Colbert Counties, Alabama.

Applicant: Phyllis Jean Deitschell, Clinic for the Rehabilitation of Wildlife, Inc., Sanibel, Florida TE054963-0.

The applicant requests authorization to take (receive, hold temporarily, transport, rehabilitate medically for injury or illness, release, and euthanize) the Loggerhead sea turtle (Caretta caretta), Green sea turtle (Chelonia mydas), Leatherback sea turtle (Dermochelys coriacea), Kemp's ridley sea turtle (Lepidochelys kempii), and Hawksbill sea turtle (Eretmochelys imbricata). The rehabilitation activities will take place at the Clinic for the Rehabilitation of Wildlife, Inc., Sanibel, Florida.

TE055698-0.

Applicant: Alabama Natural Heritage Program, James C. Godwin, Montgomery, Alabama.

The applicant requests authorization to take (survey, mark nest, and nest manipulation) the Alabama red-bellied turtle (Pseudemys alabamensis) to identify the factors that affect nest success of the Alabama red-bellied turtle, to recommend methods to improve nest success, and to locate new nesting sites. The proposed activities will take place in the Tensaw River, Mobile River Basin, north end of Gravine Island, Baldwin County, Alabama.

TE055179-0

Applicant: Michael David Warriner, Arkansas Natural Heritage Commission, Little Rock, Arkansas.

The applicant requests authorization to take (survey, capture, determine sex, mark, and release) the American burying beetle (Nicrophorus americanus) to monitor existing populations and to conduct searches for additional populations. The proposed activities will occur in the Cherokee Prairie Natural Area and the H.E. Flanagan Prairie Natural Area, Franklin County, Arkansas.

TE054974-0

Applicant: EcoScience Corporation, Gerald Mc Crain, Raleigh, North Carolina.

The applicant requests authorization to take (harass, capture, and release) the Saint Francis' satyr (Neonympha mitchellii francisci) to conduct presence/absence of species in areas where development is proposed or to determine species presence/absence in areas where a faunal inventory has been requested. The proposed activities will occur throughout the state of North Carolina.

TE055089-0

Applicant: Western Kentucky University, Scott A. Grubbs, Bowling Green, Kentucky.

The applicant requests authorization to take (remove, tag, exam, measure, sex, and translocate) the fanshell (Cyrogenia stegaria), Northern riffleshell (Epioblasma torulosa rangiana), ring pink (Obovaria retuse), clubshell (Pleurobema clava), and rough pigtoe (Pleurobema plenum) to continue the long-term biological monitoring program initiated by Schuster et al. and to assess the impact of Lock and Dam #6 on the structure of the macro-invertebrate community inhabiting the Green River and Nolin River in Mammoth Cave National Park, Kentucky.

Dated: April 22, 2002.
Thomas M. Riley,
Acting Regional Director.

[FR Doc. 02-11365 Filed 5-7-02; 8:45 am]

BILLING CODE 4310-55-P